DEPARTMENT OF JUSTICE

Notice of Lodging of Amended Consent Decree Under the Clean Water Act

In accordance with 29 CFR 50.7, notice is hereby given that on July 25, 2003, a proposed Amended Consent Decree in United States v. Southern Ohio Coal Company, (“SOCCO”), Case No. C2-96-0097 (GCS), was lodged with the United States District Court for the Southern District of Ohio, Eastern Division.

In this action the United States asserted claims against the owners and operators of a coal mine in Meigs County, Ohio, for injunctive relief, civil penalties, and recovery for damages to natural resources under the trusteeship of the United States. This action was brought pursuant to Sections 309(b) and 311(d) of the Federal Water Pollution Control Act, as amended by the Clean Water Act of 1977 and the Water Quality Act of 1987 (the “CWA”), 33 U.S.C. 1319(b) and (d), and under Section 521(c) of the Surface Mining Control and Reclamation Act (“SMCRA”), 30 U.S.C. 1271(c).

A Consent Decree entered in 1996 obtained from SOCCO significant injunctive relief, compensation for damage to natural resources, reimbursement of certain costs incurred by the United States in assessing damages to natural resources, and a civil penalty. The Ohio Environmental Protection Agency (“OEPA”) participated in settlement discussions and issued parallel orders designed to complement the agreements reflected in the 1996 Consent Decree. In response to matters beyond SOCCO's control and with the agreement of OEPA, the United States has agreed to amend the performance requirements of the 1996 Consent Decree. Under this Amended Consent Decree SOCCO would: (1) Pay additional sums for natural resource restoration activities; (2) pay for two studies of direct interest to OEPA; and (3) grant a conservation easement to land owned by SOCCO adjacent to the streams.

The Department of Justice will receive comments relating to the Gopher State Amended Consent Decree for a period of fifteen (15) days from the date of this publication. Comments should be addressed to the Assistant Attorney General, Environment and Natural Resources Division, P.O. Box 7611, U.S. Department of Justice, Washington, DC 20044-7611, and should refer to: United States v. Southern Ohio Coal Company, D.J. Ref. 90-5-1-1-5033.

The Amended Consent Decree may be examined at the Office of the United States Attorney, Southern District of Ohio, 303 Marconi Blvd., Suite 200, Columbus, OH 43215 and at U.S. EPA Region 5, 77 West Jackson Blvd., Chicago, IL 60604. During the public comment period the Amended Consent Decree may also be examined on the following Department of Justice Web site, http://www.usdoj.gov/enrd/open.html. A copy of the Amended Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (25 cents per page reproduction cost) payable to the U.S. Treasury.

William D. Brighton,
Assistant Chief, Environmental Enforcement Section, Environment and Natural Resources Division.

[FR Doc. 03-20671 Filed 8-12-03; 8:45 am]

BILLING CODE 4410-15-M